DEPARTMENT OF TRANSPORTATION

Federal Aviation Administration

14 CFR Part 39

[Docket No. FAA-2008-0224; Directorate Identifier 2007-NE-44-AD; Amendment 39-15860; AD 2009-07-01]

RIN 2120-AA64

Airworthiness Directives; Rolls-Royce Deutschland Ltd & Co KG (RRD) BR700-715A1-30, BR700-715B1-30, and BR700-715C1-30 Turbofan Engines

AGENCY: Federal Aviation Administration (FAA), DOT.

ACTION: Final rule.

SUMMARY: We are adopting a new airworthiness directive (AD) for the products listed above. This AD results from mandatory continuing airworthiness information (MCAI) issued by an aviation authority of another country to identify and correct an unsafe condition on an aviation product. The MCAI describes the unsafe condition as:

It is necessary to change the limits of the High Pressure (HP) Turbine Stage 1 and Stage 2 Rotor Discs. The maximum approved life of these discs is decreased for all flight missions.

This Emergency Airworthiness Directive (EAD) has been raised to instruct mandatory decreased maximum approved lives in the BR715 Time Limits Manual (TLM) T-715-3BR for the HP Turbine Stage 1 Rotor Disc for both Part No. BRH20130 and Part No. BRH20131 and of the High Pressure (HP) Turbine Stage 2 Rotor Disc for both Part No. BRH19423 and Part No. BRH19427 for all flight missions. The life limits are decreased by the same proportion for all flight missions, thus back to birth pro-rata calculations due to the life limit changes are not necessary.

We are issuing this AD to prevent rotating parts that may have exceeded their low-cycle fatigue life limits from failing, which could result in uncontained engine failure and subsequent damage to the airplane.

DATES: This AD becomes effective April 27, 2009.

ADDRESSES: The Docket Operations office is located at Docket Management Facility, U.S. Department of Transportation, 1200 New Jersey Avenue SE., West Building Ground Floor, Room W12-140, Washington, DC 20590-0001.

FOR FURTHER INFORMATION CONTACT: Jason Yang, Aerospace Engineer, Engine Certification Office, FAA, Engine and Propeller Directorate, 12 New England Executive Park, Burlington, MA 01803; e-mail: jason.yang@faa.gov; telephone (781) 238-7747; fax (781) 238-7199.

SUPPLEMENTARY INFORMATION:

Discussion

We issued a notice of proposed rulemaking (NPRM) to amend 14 CFR part 39 to include an AD that would apply to the specified products. That NPRM was published in the Federal Register on April 3, 2008 (73 FR 18220). That NPRM proposed to correct an unsafe condition for the specified products. The MCAI states that:

It is necessary to change the limits of the High Pressure (HP) Turbine Stage 1 and Stage 2 Rotor Discs. The maximum approved life of these discs is decreased for all flight missions.

This Emergency Airworthiness Directive (EAD) has been raised to instruct mandatory decreased maximum approved lives in the BR715 Time Limits Manual (TLM) T-715-3BR for the HP Turbine Stage 1 Rotor Disc for both Part No. BRH20130 and Part No. BRH20131 and of the High Pressure (HP) Turbine Stage 2 Rotor Disc for both Part No. BRH19423 and Part No. BRH19427 for all flight missions. The life limits are decreased by the same proportion for all flight missions, thus back to birth pro-rata calculations due to the life limit changes are not necessary.

Comments

We gave the public the opportunity to participate in developing this AD. We considered the comment received.

Correction to Table

One commenter, Rolls-Royce Deutschland Ltd & Co KG, states that in the 2nd table following paragraph (e)(1), in the lower half, fifth column, “1165” should be corrected to read “21165”.

We agree and made the correction in the AD.

Change to Table Headings

Since we issued the proposed AD, we determined that the headings in the tables following paragraph (e)(1), of “Mandatory Decreased Maximum Approved Life” are not sufficiently clear. We changed those headings to “Declared Safe Cyclic Life, in Flight Cycles”, in the AD.

Conclusion

We reviewed the available data, including the comment received, and determined that air safety and the public interest require adopting the AD with the changes described previously. We determined that these changes will not increase the economic burden on any operator or increase the scope of the AD.

Cost of Compliance

We estimate that this AD will affect 260 engines installed on airplanes of U.S. registry. We also estimate that it will take about one work-hour per engine to perform the actions and that the average labor rate is $80 per work-hour. Based on these figures, we estimate the total cost of the AD to U.S. operators to be $20,800. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-07-01 Rolls-Royce Deutschland Ltd & Co KG (formerly BMW Rolls-Royce GmbH, formerly BMW Rolls-Royce Aero Engines): Amendment 39-15860. Docket No. FAA-2008-0224; Directorate Identifier 2007-NE-44-AD.

Effective Date

(a) This airworthiness directive (AD) becomes effective April 27, 2009.

Affected ADs

(b) None.

Applicability

(c) This AD applies to Rolls-Royce Deutschland Ltd & Co KG (RRD) BR700-715A1-30, BR700-715B1-30, and BR700-715C1-30 turbofan engines. These engines are installed on, but not limited to, McDonnell Douglas Model 717-200 airplanes.

Reason

(d) It is necessary to change the limits of the High Pressure (HP) Turbine Stage 1 and Stage 2 Rotor Discs. The maximum approved life of these discs is decreased for all flight missions.

This Emergency Airworthiness Directive (EAD) has been raised to instruct mandatory decreased maximum approved lives in the BR715 Time Limits Manual (TLM) T-715-3BR for the HP Turbine Stage 1 Rotor Disc for both Part No. BRH20130 and Part No. BRH20131 and of the High Pressure (HP) Turbine Stage 2 Rotor Disc for both Part No. BRH19423 and Part No. BRH19427 for all flight missions. The life limits are decreased by the same proportion for all flight missions, thus back to birth pro-rata calculations due to the life limit changes are not necessary.

We are issuing this AD to prevent rotating parts that may have exceeded their low-cycle fatigue life limits from failing, which could result in uncontained engine failure and subsequent damage to the airplane.

Actions and Compliance

(e) No later than 30 days after the effective date of this AD the following mandatory actions need to be completed for each individual BR700-715 HP Turbine Stage 1 Rotor Disc for both Part No. BRH20130 and Part No. BRH20131 and High Pressure (HP) Turbine Stage 2 Rotor Disc for both Part No. BRH19423 and Part No. BRH19427 installed in a BR700-715A1-30, B1-30 or C1-30 engine:

(1) Identify the mandatory decreased maximum approved life for the HP Turbine Stage 1 and Stage 2 Rotor Discs listed in the tables below:

High Pressure (HP) Turbine Stage 1 Rotor Disc: Part No. | Declared Safe Cyclic Life, in Flight Cycles: Engine Thrust Rating: A1-30 Design | Declared Safe Cyclic Life, in Flight Cycles: Engine Thrust Rating: B1-30 Design | Declared Safe Cyclic Life, in Flight Cycles: Engine Thrust Rating: C1-30 Design | Declared Safe Cyclic Life, in Flight Cycles: Engine Flight Mission: A1-30 Hawaiian | Declared Safe Cyclic Life, in Flight Cycles: Engine Flight Mission: C1-30 Tropical | Declared Safe Cyclic Life, in Flight Cycles: Engine Flight Mission: C1-30 derated Tropical
BRH20130 | 15971 | 13324 | 10500 | 17647 | 3794 | 7941
BRH20131 | 15971 | 13324 | 10500 | 17647 | 3794 | 7941

High Pressure (HP) Turbine Stage 2 Rotor Disc: Part No. | Declared Safe Cyclic Life, in Flight Cycles: Engine Thrust Rating: A1-30 Design | Declared Safe Cyclic Life, in Flight Cycles: Engine Thrust Rating: B1-30 Design | Declared Safe Cyclic Life, in Flight Cycles: Engine Thrust Rating: C1-30 Design | Declared Safe Cyclic Life, in Flight Cycles: Engine Flight Mission: A1-30 Hawaiian | Declared Safe Cyclic Life, in Flight Cycles: Engine Flight Mission: C1-30 Tropical | Declared Safe Cyclic Life, in Flight Cycles: Engine Flight Mission: C1-30 derated Tropical
BRH19423 | 21165 | 17800 | 13372 | 21165 | 10893 | 13461
BRH19427 | 21165 | 17800 | 13372 | 21165 | 10893 | 13461

(2) Record the mandatory maximum approved life in the applicable lifing documentation. It is mandatory to use the values given in the two tables in step (e)(1) of this AD.

Alternative Methods of Compliance (AMOCs)

(f) The Manager, Engine Certification Office, FAA, has the authority to approve AMOCs for this AD, if requested using the procedures found in 14 CFR 39.19.

Related Information

(g) Refer to EASA Emergency Airworthiness Directive 2007-0152-E (corrected), dated June 1, 2007, for related information.

(h) Contact Jason Yang, Aerospace Engineer, Engine Certification Office, FAA, Engine and Propeller Directorate, 12 New England Executive Park, Burlington, MA 01803; e-mail: jason.yang@faa.gov; telephone (781) 238-7747; fax (781) 238-7199, for more information about this AD.

Material Incorporated by Reference

(i) None.

Issued in Burlington, Massachusetts, on March 17, 2009.
Francis A. Favara,
Manager, Engine and Propeller Directorate, Aircraft Certification Service.

[FR Doc. E9-6226 Filed 3-20-09; 8:45 am]

BILLING CODE 4910-13-P